COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List commodities and servicess to be furnished by nonprofit agencies employing persons who are blind or have other severe disabilities.

Comments Must Be Received On or Before: September 4, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot, (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, entities of the Federal Government identified in this notice for each commodity or services will be required to procure the commodities and servicess listed below from nonprofit agencies employing persons who are blind or have other severe disabilities.

Additions

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information.

The following commodities and services are proposed for addition to Procurement List for production by the nonprofit agencies listed:

Commodities

First Aid Kits

6545-01-465-1800

6545-01-465-1823

6545-01-465-1846

6545-00-663-9032

6545-00-664-5313

6545-01-425-4663

NPA: The Lighthouse for the Blind in New Orleans New Orleans, Louisiana

Government Agency: GSA/Industrial Products Contracting Division

Inkjet Media—Small Format

7530-00-NIB-0593

7530-00-NIB-0594

7530-00-NIB-0595

7530-00-NIB-0596

7530-00-NIB-0597

NPA: Wiscraft Inc.—Wisconsin Enterprises for the Blind Milwaukee, Wisconsin

Government Agency: GSA/Office Supplies and Paper Products Commodity Center

Bag, Tote, Mesh

M.R. 512

NPA: New Mexico Industries for the Blind Albuquerque, New Mexico

Government Agency: Defense Commissary Agency

Brush, Pastry

M.R. 824

NPA: Alabama Industries for the Blind Talladega, Alabama

Government Agency: Defense Commissary Agency

Christmas Towel

M.R. 1050

NPA: Chester County Branch of the PAB Coatesville, Pennsylvania

Government Agency: Defense Commissary Agency

Impulse Merchandising Program (IMP)—Stage 1

M.R. 1733—Sachet Bags Assorted

M.R. 1735—Shower Rod Hook

M.R. 1737—Corkscrew Winger

M.R. 1739—Goo Gone

M.R. 1750—Picture Hanger Kit

M.R. 1752—Household Helper Kit

M.R. 1753—School/Home Supply Kit

M.R. 1757—Chopsticks

M.R. 1760—Bathmates Tummy Sponge

M.R. 1761—Bathmates Puppet Sponge

M.R. 1762—Sunfile Nail File

M.R. 1764—Okee Dokee Stickers

M.R. 1766—Seat Covers

M.R. 1768—Iron Bottom Cleaner Sticks

M.R. 1769—Coke Coaster

M.R. 1770—Coke/Garfield/Looney Toone Pad

M.R. 1777—Straw Hugger

M.R. 1778—Oreo/Cherrio Container

M.R. 1779—Potpourri Oil Crystal

M.R. 1785—Cup Hooks Assorted

M.R. 1786—EZ Bag Opener

M.R. 1790—Lint Mitt

M.R. 1791—Wild Cat Air Freshener

M.R. 1792—Sneaker Balls

M.R. 1793—Single Air Freshener Balls

M.R. 1794—Baby Book Magic

M.R. 1795—Baby Bath Floatee

M.R. 1797—First Aid Wipes Hydrogen

M.R. 1801—Magnified Tweezers

M.R. 1802—Mop and Broom Hook

M.R. 1804—Last Drop Ketchup

M.R. 1805—Mini Funnels

M.R. 1806—Tuna Disk

M.R. 1807—Cookie Cutter

M.R. 1810—Permanent Coffee Filter

M.R. 1818—Color Change Krazy Straw

M.R. 1821—Suction Hooks

M.R. 1822—Bleach Spout

M.R. 1823—Scented Tissue Holder

M.R. 1826—Pet Odor Absorber

M.R. 1827—Chow Clip

M.R. 1828—Milkbone Treat Holder

M.R. 1846—Skimmer

M.R. 1847—Slurp Spoon

M.R. 1849—Playing Cards

M.R. 1854—Soft Tip Spoons (2 Pack)

M.R. 1861—Retractable Leash

M.R. 1862—Cat Nip Toy

M.R. 1863—Night Guide

M.R. 1865—Perfect Patty Bag

M.R. 1866—Spray Scrubber

M.R. 1867—Sports Fizz Keeper

NPA: Winston-Salem Industries for the Blind Winston-Salem, North Carolina

Government Agency: Defense Commissary Agency

Impulse Merchandising Program (IMP)— Stage 2

M.R. 1502—Soap Saver

M.R. 1509—Toothbrush Holder

M.R. 1510—Toothbrush/Soap Holder

M.R. 1511—Hair Pic Pak

M.R. 1512—Combs, Bonus Pak

M.R. 1524—Computer/Audio Dustcloth

M.R. 1573—Hot-Cold Mask

M.R. 1607—Enabler Easy Open

M.R. 1608—Enabler Zipper/Button Pull

M.R. 1614—Mayo Knife

M.R. 1625—Note Pad, Magnetic

M.R. 1684—Lunchbox Fun Ice, Assortment

M.R. 1688—Enabler Lamp Switch

M.R. 1711—Moist Eye Glass Cleaner

M.R. 1712—Eye Make-Up Remover

M.R. 1713—Nail Polish Remover

M.R. 1741—Hand/Nail Brush

M.R. 1747—Beauty Rounds, 8 Count

M.R. 1748—Beauty Puff, 4 Pack

M.R. 1751—Beauty Wedges

M.R. 1762—Sunfile Nail File

M.R. 1766—Seat Covers

M.R. 1770—Coke/Garfield/Looney Toone Pad

M.R. 1797—First Aid Wipes Hydrogen

M.R. 1804—Last Drop Ketchup

NPA: Winston-Salem Industries for the Blind Winston-Salem, North Carolina

Government Agency: Defense Commissary Agency

Mop, Anglematic, Deluxe, Refill

M.R. 1039

NPA: The Lighthouse for the Blind, Inc. Seattle, Washington

Government Agency: Defense Commissary Agency

Mop, Flat w/Scrubber Refill

M.R. 1048

NPA: Arizona Industries for the Blind Phoenix, Arizona

New York City Industries for the Blind Brooklyn, New York

Government Agency: Defense Commissary Agency

Plumber's Helper

M.R. 1046

NPA: Winston-Salem Industries for the Blind Winston-Salem, North Carolina

Government Agency: Defense Commissary Agency

Thermometer, Digital, Poultry/Steak & Probe, Analog

M.R. 811

M.R. 812

M.R. 813

M.R. 817

NPA: The Chicago Lighthouse for People who are Blind or Visually Impaired Chicago, Illinois

Government Agency: Defense Commissary Agency

Salad Shaker

M.R. 11839

NPA: Winston-Salem Industries for the Blind Winston-Salem, North Carolina

Government Agency: Defense Commissary Agency

Soap Shipper

M.R. 431

NPA: Winston-Salem Industries for the Blind Winston-Salem, North Carolina

Government Agency: Defense Commissary Agency

Services

Grounds Maintenance

National Advocacy Center Columbia, South Carolina

NPA: The Genesis Center Sumter, South Caroline

Government Agency: DOJ/National Advocacy Center

Janitorial/Custodial

At the following Richmond, Virginia Locations:

1Lt Monteith USARC

Colonel Dervishian USARC

Richmond AFRC

NPA: Richmond Area Association for Retarded Citizens Richmond, Virginia

Government Agency: US Army Reserve Centers, Richmond, Virginia

Louis R. Bartalot,
Director, Program Analysis and Evaluation.

[FR Doc. 01-19492 Filed 8-2-01; 8:45 am]

BILLING CODE 6353-01-P